DEPARTMENT OF TRANSPORTATION

Federal Transit Administration

Preparation of Environmental Impact Statement on Transit Improvements in the Uptown-West Loop Corridor Located in Uptown and Along the West Loop (IH-610 West) in Houston, Harris County, Texas

AGENCY: Federal Transit Administration, DOT.

ACTION: Notice of intent to prepare Environmental Impact Statement.

SUMMARY: The Federal Transit Administration (FTA), in cooperation with the Metropolitan Transit Authority of Harris County (METRO), intends to prepare an Environmental Impact Statement (EIS) in accordance with the National Environmental Policy Act (NEPA), to evaluate transportation improvements in the Houston metropolitan area (Harris County).

The EIS will evaluate the following transit alternatives: a No Build Alternative, consisting of already planned improvements to the corridor, and a Build Alternative, consisting of a wide range of transit improvements. The type, location, and need for ancillary facilities, such as maintenance facilities, will also be considered for each alternative. Scoping will be accomplished with a series of public meetings, and through correspondence with interested persons, organizations, and Federal, State and local agencies.

Depending on the outcome of the scoping process and the analysis of a wide range of transit alternatives, a Locally Preferred Investment Strategy (LPIS) will be selected and evaluated in the EIS. The EIS will evaluate the potential impacts of the selected investment strategy (the Build Alternative) and a No Build Alternative.

The sequence of events for the planning and development for this project include the following major milestones:

• Scoping Process—early opportunity for public input to the study scope and project alternatives. Scoping will be accomplished with a series of public meetings and through correspondence with interested persons, organizations, and Federal, State and local agencies.

• Planning Studies—evaluation of proposed improvement alternatives, early consideration of environmental factors, concluding with the selection of a LPIS.

• Conceptual Engineering and Draft Environmental Impact Statement (EIS)—conceptual definition of the alternatives including their physical features and potential impacts, consideration of mitigation measures, preparation and circulation of the Draft EIS, and public hearing(s).

• Preliminary Engineering and Final EIS—detailed definition of the proposed alternative's physical features, assessment of potential impacts, development of selected mitigation measures, responses to comments offered during the Draft EIS comment period, and preparation of the Final EIS.

DATES: Comment Due Date: Written comments on the scope of alternatives and impacts considered should be sent to the Metropolitan Transit Authority of Harris County by March 15, 2002. See ADDRESSES below.

Scoping Meetings: Public Scoping meetings for the Uptown-West Loop Corridor will be held on February 12, 2002 and February 27, 2002. See ADDRESSES below for meeting times and locations.

All scoping meetings will be held in wheelchair-accessible locations. Any person who requires language interpretation or special communication accommodations is encouraged to contact the project's public participation coordinator at 713-739-6049 at least 72 hours prior to the meeting. Every reasonable effort will be made to meet your needs. Scoping information material will be available at the meetings and may also be obtained in advance of the meetings by contacting the public participation coordination or by contacting METRO at the address or e-mail identified in ADDRESSES below. Oral and written comments may be given at the scoping meetings. A court reporter will record all comments.

ADDRESSES: Written comments should be sent to METRO Mobility 2025, Room 21034, P.O. Box 61429, Houston, Texas 77208-1429. E-mail: uptown-westloop@ridemetro.org. Scoping meetings will be held at the following locations:

1. February 12, 2001, J.W. Marriott Hotel, Exhibition Room, 5150 Westheimer, Houston, Texas 77077, 11:30 a.m.-2:30 p.m. Open House, 6-8:30 p.m. Open House.

2. February 27, 2002, Houston-Galveston Area Council, 3555 Timmons Lane—2nd Floor, Houston, Texas 77027, 3-5 p.m. Agency Scoping Meeting, Conference Room A, 5-7 p.m. Open House, Conference Room B.

FOR FURTHER INFORMATION CONTACT: Mr. Jesse Balleza, Community Planner, FTA, Region VI, 819 Taylor Street, Fort Worth, Texas 76102, Telephone (817) 978-0550.

SUPPLEMENTARY INFORMATION:

I. Scoping

FTA and METRO invite all interested individuals and organizations, and Federal, State, regional, and local agencies to participate in defining the alternatives to be evaluated and identifying social, economic, or environmental issues related to the alternatives. During scoping, comments should focus on identifying specific social, economic, or environmental impacts to be evaluated, and suggesting alternatives that may be less costly or have less environmental impacts, but achieve similar objectives. Comments during scoping should focus on the issues and alternatives for analysis, and not on a preference for a particular alternative. Individual preference for a particular alternative should be communicated through the planning process and during the comment period for the Alternatives Analysis Report.

Prior to initiating the EIS, planning studies will identify a LPIS that includes transit improvements. Interested individuals, organizations, and Federal, State, and local agencies are invited to participate in refining the purpose, alternatives, schedule, and analysis approach, as well as participate in the active public involvement program for throughout the planning process and project implementation. The public is invited to comment on corridor needs and alternatives to be addressed; modes and technologies to be evaluated; alignments and station locations; the environmental, social, and economic impacts to be analyzed; and the evaluation approach to be used to select a LPIS. The scoping process will provide input to the process to be used for the evaluation of alternatives during the planning process and the early identification of environmental issues to be considered during the planning studies and in the EIS.

Scoping activities are being initiated at the outset of the planning studies, in advance of the EIS, to maximize the opportunity for public involvement in the consideration of alternatives and reaching decisions about the transportation investments that will be advanced into the EIS phase of project development.

II. Description of the Project Area and Need

The study area for the Uptown-West Loop Corridor is located on the near west side of the City of Houston. The study area extends approximately four miles on either side of the West Loop from the Katy Freeway (IH-10) on the north to the Southwest Freeway (U.S. 59) on the south. The West Loop is the primary north-south transportation facility in the corridor providing access to the Uptown/Galleria area, major employment, residential, retail and activity centers, and to the City of Bellaire. The freeway facility, with an average right-of-way width of 350 feet, connects with other portions of the IH-610 loop, such as the North Loop and the South Loop, that circle Houston. In addition, the West Loop provides a strategic connection to other regional freeway corridors including the Northwest Freeway (U.S. 290), the Katy Freeway, and the Southwest Freeway. The study area also includes METRO transit center facilities on the north and south ends of the corridor. There are a variety of travel markets in the study that include home-to-work trips, and non-home base trips such as business and visitor trips, and recreational-entertainment trips.

Substantial new development and redevelopment is occurring throughout the corridor. However, future development and potential redevelopment could be restricted due to limits on roadway and transit system capacity and parking facilities. Improved transit service, connectivity, access, and capacity are seen as essential to support and enhance economic development activity and help provide a framework for creating a livable and sustainable community.

In general, the following needs and problems have been identified as detrimental to the continued success of the Uptown-West Loop Corridor:

(1) Exclusive transit corridor to improve reliability and travel time;

(2) Pervasive congestion at key intersections;

(3) Service to distinct travel markets

a. Line-haul services on the Katy Freeway, West Loop, Westpark Toll Road, and Southwest Freeway

b. Collection and distribution services for Uptown Houston;

(4) Poor pedestrian environment and linkages;

(5) Conservation of Memorial Park and other sensitive land uses;

(6) Air and noise pollution;

(7) Visual impacts of potential transportation improvements.

The growth in population and employment in the corridor is significantly large in both relative and absolute numbers. Previous study projections indicate that patronage to retail/entertainment venues in the corridor will increase as well. The projected consequence of this growth is higher traffic volumes throughout local streets and the West Loop throughout the study area. Traffic congestion in the study area will increase in both severity and duration as the peak period “spreads” to encompass earlier and later hours. Travel on parallel arterials will increase proportionately as congestion on the West Loop causes a higher fraction of travel to use alternative routes. Restricted ingress and egress to the Uptown-West Loop area and servicing arterials has contributed to the unreliability of transit services and will deteriorate if not effectively addressed.

III. Alternatives

In accordance with NEPA, a public scoping process will be initiated to identify corridor needs and alternatives. The scoping process will provide the basis for the evaluation of alternatives as part of the planning studies, and the selection of a LPIS and implementation program. The planning studies will consider a variety of transit options in the corridor based on input received during the scoping process. It is expected that the LPIS will be a combination of one or more alternative options identified. Subsequent to the selection of the LPIS, the selected alternatives will be refined and documented in the EIS. At a minimum, the alternatives to be considered in the planning studies include:

▪ No Build Alternative;

▪ Bus Rapid Transit;

▪ HOV system improvements; and

▪ Light Rail Transit (LRT).

Additional reasonable Build Alternatives suggested during the scoping process, including those involving other modes, may be considered.

IV. Probable Effects and Potential Impacts for Analysis

FTA and METRO will evaluate all social, economic and environmental impacts of the alternatives analyzed in the EIS. Impacts may include: Land use, zoning, and economic development; secondary development; cumulative impacts; land acquisition, displacements, and relocation of existing uses; historic, archaeological, and cultural resources; parklands and recreation areas; visual and aesthetic qualities; neighborhoods and communities; environmental justice; air quality; noise and vibration; hazardous materials; ecosystems; water resources; energy; construction impacts; safety and security; utilities; finance; and transportation impacts. The impacts will be evaluated both for the construction period and for the long-term period of operation of each alternative. Measures to mitigate adverse impacts will be identified.

V. FTA Procedures

In accordance with FTA policy, all federal laws, regulations and executive orders affecting project development, including but not limited to the regulations of the Council on Environmental Quality and FTA implementing NEPA (40 CFR parts 1500-1508 and 23 CFR part 771), the 1990 Clean Air Act Amendments, section 404 of the Clean Water Act, Executive Order 12898 regarding environmental justice, the National Historic Preservation Act, the Endangered Species Act, and section 4(f) of the Department of Transportation Act, will be addressed to the maximum extent practicable during the NEPA process.

Issued on: January 2, 2002.
Robert C. Patrick,
Regional Administrator, Federal Transit Administration, Region VI, Fort Worth, Texas.

[FR Doc. 02-557 Filed 1-8-02; 8:45 am]

BILLING CODE 4910-57-P